DEPARTMENT OF COMMERCE

National Oceanic and Atmospheric Administration

RIN 0648-XE783

Draft 2016 Marine Mammal Stock Assessment Reports; Correction

AGENCY: National Marine Fisheries Service (NMFS), National Oceanic and Atmospheric Administration (NOAA), Commerce.

ACTION: Notice; correction.

SUMMARY: We, NMFS, published a notice of the availability of the draft 2016 Alaska, Atlantic, and Pacific regional marine mammal stock assessment reports (SARs) in the Federal Register on October 11, 2016. Subsequent to soliciting public comment on the draft 2016 SARs, we became aware that due to technical errors in converting between electronic formats, the draft Atlantic SARs contained incorrect information in some instances. We have corrected these errors and through this notice we announce the availability of revised draft Atlantic 2016 SARs for public comment through the end of the original 90-day comment period.

DATES: Comments must be received by January 9, 2017. If members of the public need additional time to review the draft Atlantic 2016 SARs, please contact Shannon Bettridge, Office of Protected Resources, 301-427-8402, Shannon.Bettridge@noaa.gov.

ADDRESSES: The 2016 draft SARs are available in electronic form via the Internet at http://www.nmfs.noaa.gov/pr/sars/draft.htm.

You may submit comments, identified by NOAA-NMFS-2016-0101, by any of the following methods:

Federal e-Rulemaking Portal: Go to www.regulations.gov/#!docketDetail;D=NOAA-NMFS-2016-0101, click the “Comment Now!” icon, complete the required fields, and enter or attach your comments.

Mail: Send comments or requests for copies of reports to: Chief, Marine Mammal and Sea Turtle Conservation Division, Office of Protected Resources, National Marine Fisheries Service, 1315 East-West Highway, Silver Spring, MD 20910-3226, Attn: Stock Assessments.

Instructions: NMFS may not consider comments if they are sent by any other method, to any other address or individual, or received after the end of the comment period. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Shannon Bettridge, Office of Protected Resources, 301-427-8402, Shannon.Bettridge@noaa.gov.

SUPPLEMENTARY INFORMATION:

Background

Section 117 of the Marine Mammal Protection Act (MMPA) (16 U.S.C. 1361 et seq.) requires NMFS and the U.S. Fish and Wildlife Service (FWS) to prepare stock assessments for each stock of marine mammals occurring in waters under the jurisdiction of the United States, including the Exclusive Economic Zone. These reports must contain information regarding the distribution and abundance of the stock, population growth rates and trends, estimates of annual human-caused mortality and serious injury (M/SI) from all sources, descriptions of the fisheries with which the stock interacts, and the status of the stock.

The MMPA requires NMFS and FWS to review the SARs at least annually for strategic stocks and stocks for which significant new information is available, and at least once every three years for non-strategic stocks. The term “strategic stock” means a marine mammal stock: (A) for which the level of direct human-caused mortality exceeds the potential biological removal level; (B) which, based on the best available scientific information, is declining and is likely to be listed as a threatened species under the Endangered Species Act (ESA) within the foreseeable future; or (C) which is listed as a threatened species or endangered species under the ESA. NMFS and the FWS are required to revise a SAR if the status of the stock has changed or can be more accurately determined. We published a notice of the availability of the draft 2016 Alaska, Atlantic, and Pacific regional marine mammal SARs in the Federal Register on October 11, 2016 (81 FR 70097).

Subsequent to soliciting public comment on the draft 2016 SARs, we were made aware that the draft Atlantic 2016 SARs contained some technical errors. A problem with our electronic file formatting conversion introducted some erroneous numbers into the document. For example, in some of the tables contained in the reports (e.g., bycatch table in Atlantic white-sided dolphin), the “years” column and/or the “mean combined annual mortality” column had incorrect values. In one case, the PBR for a stock was correct in the summary table, but incorrect in the text of the individual report. Most of the errors that we discovered in the reports involved incorrect text strike-throughs, where only a portion of a number was struck out, rather than the entire value.

We immediately corrected the errors and posted a revised version of the draft Atlantic 2016 SARs on the NMFS Web site on December 1, 2016. With this Federal Register notice, we are notifying the public and soliciting comments on the revised version by January 9, 2017. If members of the public need additional time to review the draft Atlantic 2016 SARs, please contact Shannon Bettridge (see FOR FURTHER INFORMATION CONTACT).

Dated: December 12, 2016.
Donna S. Wieting,
Director, Office of Protected Resources, National Marine Fisheries Service.

[FR Doc. 2016-30171 Filed 12-14-16; 8:45 am]

BILLING CODE 3510-22-P